GENERAL SERVICES ADMINISTRATION

[OMB Control No. 3090-XXXX; Docket No. 2023-0001; Sequence No. 2]

Information Collection; Living Quarters Eligibility Questionnaire; GSA Form 5039

AGENCY: Office of Human Resource Management, Division of Human Capital Policy and Programs, General Services Administration (GSA).

ACTION: Notice of request for comments regarding a request for a new OMB clearance.

SUMMARY: Under the provisions of the Paperwork Reduction Act, the Regulatory Secretariat Division will be submitting to the Office of Management and Budget (OMB) a request to review and approve a new information collection requirement.

DATES: Submit comments on or before May 16, 2023.

ADDRESSES: Submit comments identified by Information Collection 3090-XXXX; Living Quarters Eligibility Questionnaire; GSA Form 5039 to: http://www.regulations.gov.

Submit comments via the Federal eRulemaking portal by searching for “Information Collection 3090-XXXX; Living Quarters Eligibility Questionnaire; GSA Form 5039”. Select the link “Submit a Comment” that corresponds with “Information Collection 3090-XXXX; Living Quarters Eligibility Questionnaire; GSA Form 5039”. Follow the instructions provided at the “Submit a Comment” screen. Please include your name, company name (if any), and “Information Collection 3090-XXXX; Living Quarters Allowance Eligibility Questionnaire; GSA Form 5039” on your attached document. If your comment cannot be submitted using https://www.regulations.gov, call or email the points of contact in the FOR FURTHER INFORMATION CONTACT section of this document for alternate instructions.

Instructions: Please submit comments only and cite Information Collection 3090-XXXX; Living Quarters Allowance Eligibility Questionnaire; GSA Form 5039, in all correspondence related to this collection. Comments received generally will be posted without change to http://www.regulations.gov, including any personal and/or business confidential information provided. To confirm receipt of your comment(s), please check www.regulations.gov, approximately two-to-three days after submission to verify posting.

FOR FURTHER INFORMATION CONTACT: Colin C. Bennett, Human Resources Specialist, Office of Human Resources Management, Division of Human Capital Policy and Programs, at telephone 240-418-6822 or via email to colin.bennett@gsa.gov for clarification of content.

SUPPLEMENTARY INFORMATION:

A. Purpose

The General Services Administration routinely hires, reassigns, promotes or transfers Federal employees to duty stations in foreign areas (i.e., outside of the United States and its territories and possessions). Civilian employees located in foreign areas are eligible for different compensation authorities compared to employees located in the United States or its territories or possessions. Besides basic pay, certain foreign allowances are often used as recruitment or retention incentives to make foreign service more economically feasible. One type of allowance is called a “living quarters allowance,” or “LQA,” and allows an agency to reimburse the cost of rental housing as well as utilities (such as electricity, natural gas, and water service). Under this authority (conveyed by the Overseas Differentials and Allowances Act of 1960, Pub. L. 86-707, Sept. 6, 1960, codified at 5 U.S.C. 5923(a)(2)), not all job candidates or overseas employees are necessarily eligible (for example, if Government-provided housing is made available). In addition, for those job candidates eligible, the amount of the benefit varies by rank (i.e., GS grade), presence overseas with or without family, and overall family size. Detailed rules concerning eligibility and other matters are found in the State Department's Department of State Standardized Regulations, sections 031.12 and Chapter 130.

To more effectively administer LQA, the General Services Administration (GSA) has created a new agency form, GSA Form 5039, Living Quarters Allowance Eligibility Questionnaire. This form collects basic demographic and housing-related information and also includes questions meant to coordinate housing benefits between the U.S. military and other Federal agencies (for example, if two spouses work for different Federal agencies). Individuals who complete this pre-employment questionnaire are considered job candidates and may be members of the public (if not already Federal civilian employees). The purpose of the data collection from job candidates is to ensure that eligible applicants receive allowance consideration, in the correct amounts based on the position and family size, and ineligible candidates are not erroneously provided with this significant monetary benefit.

B. Annual Reporting Burden

Respondents: 25 per year.

Responses per Respondent: 1.

Total Annual Responses: 25.

Hours per Response: 1.

Total Burden Hours: 25.

C. Public Comments

Public comments are encouraged and are particularly invited on: (a) whether this collection of information is necessary, (b) whether it will have practical utility, (c) whether our estimate of the public burden of this collection of information is accurate (and based on valid assumptions and methodology), (d) whether or not there are ways to enhance the new form's utility and clarity of the information to be collected, and (e) whether or not there might be ways in to minimize the data collection burden through the use of information technology.

Obtaining Copies of Proposals: While the proposed GSA Form 5039 is not included within this article's publication, a copy of form can be obtained through the Regulatory Secretariat Division by calling 202-501-4755 or emailing GSARegSec@gsa.gov. Please cite OMB Control No. 3090-XXXX, Living Quarters Allowance Eligibility Questionnaire; GSA Form 5039, in all correspondence.

Beth Anne Killoran,
Deputy Chief Information Officer.

[FR Doc. 2023-05488 Filed 3-16-23; 8:45 am]

BILLING CODE 6820-FM-P